DEPARTMENT OF DEFENSE

Department of the Air Force

[Docket ID: USAF-2018-HQ-0003]

Submission for OMB Review; Comment Request

AGENCY: Department of the Air Force, DoD.

ACTION: 30-Day information collection notice.

SUMMARY: The Department of Defense has submitted to OMB for clearance the following proposal for collection of information under the provisions of the Paperwork Reduction Act.

DATES: Consideration will be given to all comments received by September 10, 2018.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: Web-based Legal Information Online System (WebLIONS); OMB Control Number 0701-XXXX.

Type of Request: New.

Number of Respondents: 191,000.

Responses per Respondent: 1.

Annual Responses: 191,000.

Average Burden per Response: 3 minutes.

Annual Burden Hours: 9,550.

Needs and Uses: Requesting authorization to collect information on individuals who seek assistance from the Air Force in resolving their personal legal issues. Air Force personnel use WebLIONS to create and maintain records on these individuals in order to perform their official duties and to manage the legal assistance program. The system allows personnel to review and track cases, as well as perform conflict checks. It is also consulted by attorneys and paralegals when they are generating legal documents for their clients.

Affected Public: Individual or Households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari.

Requests for copies of the information collection proposal should be sent to Mr. Licari at whs.mc-alex.esd.mbx.dd-dod-information-collections@mail.mil.

Dated: August 6, 2018.
Shelly E. Finke,
Alternate OSD Federal Register, Liaison Officer, Department of Defense.

[FR Doc. 2018-17034 Filed 8-8-18; 8:45 am]

BILLING CODE 5001-06-P